DEPARTMENT OF THE TREASURY

Internal Revenue Service

26 CFR Part 1

[REG-144620-04]

RIN 1545-BD70

Partner's Distributive Share; Hearing Cancellation

AGENCY: Internal Revenue Service (IRS), Treasury.

ACTION: Cancellation of notice of public hearing on proposed rulemaking.

SUMMARY: This document cancels a public hearing on proposed regulations that provides rules for testing the substantiality of an allocation under section 704(b) where the partners are look-through entities or members of a consolidated group.

DATES: The public hearing originally scheduled for February 15, 2006, at 10 a.m., is cancelled.

FOR FURTHER INFORMATION CONTACT: Robin R. Jones of the Publications and Regulations Branch, Legal Processing Division, Associate Chief Counsel (Procedure and Administration) at (202) 622-7180 (not a toll-free number).

SUPPLEMENTARY INFORMATION: A notice of proposed rulemaking and notice of public hearing that appeared in the Federal Register on Friday, November 18, 2005 (70 FR 69919) announced that a public hearing was scheduled for February, 15, 2006, at 10 a.m., in the IRS Auditorium, Internal Revenue Service Building, 1111 Constitution Avenue, NW., Washington, DC. The subject of the public hearing is under section 704(b) of the Internal Revenue Code. The public comment period for these regulations expired on January 25, 2006.

The notice of proposed rulemaking and notice of public hearing, instructed those interested in testifying at the public hearing to submit a request to speak and an outline of the topics to be addressed. As of Tuesday, February 7, 2006, no one has requested to speak. Therefore, the public hearing scheduled for February 15, 2006, is cancelled.

LaNita VanDyke,
Federal Register Liaison Officer, Legal Processing Division, Associate Chief Counsel, (Procedure and Administration).

[FR Doc. E6-1926 Filed 2-10-06; 8:45 am]

BILLING CODE 4830-01-P